GENERAL SERVICES ADMINISTRATION

48 CFR Part 538

[GSAR Case 2022-G514; Docket No. 2023-0009; Sequence No. 1]

RIN 3090-AK58

General Services Acquisition Regulation (GSAR); Standardizing Federal Supply Schedule Clause and Provision Prescriptions; Correction

AGENCY: Office of Acquisition Policy, General Services Administration (GSA).

ACTION: Final rule; correction.

SUMMARY: On January 12, 2024, GSA published a final rule amending the General Services Administration Acquisition Regulation (GSAR) to clarify when GSAR clauses apply to Federal Supply Schedule contracts. Some text inadvertently appeared in a section revision, and inadvertently omitted amendatory text. This correction removes that text and adds the omitted language.

DATES: This correction is effective February 12, 2024.

FOR FURTHER INFORMATION CONTACT: Ms. Adina Torberntsson, Procurement Analyst, at 720-475-0568 or gsarpolicy@gsa.gov, for clarification of content. For information pertaining to status or publication schedules, contact the Regulatory Secretariat Division at 202-501-4755 or gsaregsec@gsa.gov. Please cite GSAR Case 2022-G514.

SUPPLEMENTARY INFORMATION: GSA is making a correction to a paragraph in the revision of 48 CFR 538.273 published in a final rule on January 12, 2024. The words “the Handicapped.” erroneously appeared in amendatory instruction number 4, in paragraph (b)(1) of the section. Also, the amendatory text for paragraph (d)(37) was erroneously omitted.

Correction

In FR Doc. 2024-00519, starting on page 2172 in the issue of January 12, 2024, on page 2173, in the second column, and page 2174, in the second column, section 552.238-73 is corrected by revising paragraph (b)(1) and adding paragraph (d)(37) to read as follows:

538.273 [Corrected]

* * * * *

(b) * * *

(1) 552.238-73, Identification of Electronic Office Equipment Providing Accessibility for Individuals with Disabilities. Use only in FSS solicitations for electronic office equipment.

* * * * *

(d) * * *

(37) 552.238-117, Price Adjustment—Failure to Provide Accurate Information. Use only in FSS solicitations and contracts under the MAS program. This clause is used when the contract contains the basic clause 552.238-80, Industrial Funding Fee and Sales Reporting.

* * * * *

Jeffrey A. Koses,
Senior Procurement Executive, Office of Acquisition Policy, Office of Government-wide Policy, General Services Administration.

[FR Doc. 2024-02808 Filed 2-12-24; 8:45 am]

BILLING CODE 6820-61-P